DEPARTMENT OF THE INTERIOR

Fish and Wildlife Service

50 CFR Part 17

[Docket No. FWS-R5-ES-2015-0001; 50120-1113-000]

RIN 1018-AY05

Endangered and Threatened Wildlife and Plants; Removing Eastern Puma (=Cougar) From the Federal List of Endangered and Threatened Wildlife

AGENCY: Fish and Wildlife Service, Interior.

ACTION: Proposed rule; reopening of comment period.

SUMMARY: We, the U.S. Fish and Wildlife Service (Service), announce the reopening of the comment period on our June 17, 2015, proposed rule to remove the eastern puma (=cougar) (Puma (=Felis) concolor couguar) from the Federal List of Endangered and Threatened Wildlife. We are reopening the comment period for 30 days to conduct peer review. Interested parties are also afforded this additional opportunity to comment on the proposed rule; comments previously submitted need not be resubmitted, as they will be fully considered in preparation of the final listing determination.

DATES: To allow us adequate time to consider comments on the proposed rule, we must receive them on or before July 28, 2016.

ADDRESSES: Written comments: You may submit comments on the proposed rule by one of the following methods:

• Federal eRulemaking Portal: Go to the Federal eRulemaking Portal: http://www.regulations.gov. In the Search box, enter the docket number for the proposed rule, which is FWS-R5-ES-2015-0001. Then click on the Search button. On the resulting page, you may submit a comment by clicking on “Comment Now!” Please ensure that you have found the correct rulemaking before submitting your comment.

• By U.S. mail or hand delivery: Public Comments Processing, Attn: Docket No. FWS-R5-ES-2015-0001, U.S. Fish and Wildlife Service, MS: BPHC, 5275 Leesburg Pike, Falls Church, VA 22041-3803.

We request that you send comments only by the methods described above. We will post all comments on http://www.regulations.gov. This generally means that we will post any personal information provided to us (see SUPPLEMENTARY INFORMATION for more information).

Document availability: Comments and materials we receive, as well as supporting documentation we used in preparing the proposed rule, will be available for public inspection on http://www.regulations.gov under Docket No. FWS-R5-ES-2015-0001.

FOR FURTHER INFORMATION CONTACT: Martin Miller, Northeast Regional Office, telephone 413-253-8615; or Mark McCollough, Maine Field Office, telephone 207-866-3344, extension 115. Individuals who are hearing impaired or speech impaired may call the Federal Information Relay Service at (800) 877-8339 for TTY assistance 24 hours a day, 7 days a week.

SUPPLEMENTARY INFORMATION: On June 17, 2015, we published a proposed rule (80 FR 34595) to remove the eastern puma (=cougar) from the Federal List of Endangered and Threatened Wildlife based on a thorough review of the best available scientific and commercial data, which indicate that this species is extinct and no longer meets the definition of an endangered or a threatened species under the Endangered Species Act of 1973, as amended (16 U.S.C. 1531 et seq.). We sought comments and information from the public regarding the proposal during a 60-day comment period ending August 17, 2015. We are reopening the comment period on that proposed rule for an additional 30 days (see DATES, above). We will accept written comments and information during this reopened comment period. We are specifically soliciting comments from peer reviewers (see Peer Review, below). Please refer to the proposed rule for more information on our proposed action and the specific comments and information we seek.

You may submit your comments and information concerning the proposed rule by one of the methods listed in ADDRESSES. Before including your address, phone number, email address, or other personal identifying information in your comment, you should be aware that your entire comment—including your personal identifying information—may be made publicly available at any time. All comments and recommendations, including names and addresses, will become part of the administrative record.

If you submit information via http://www.regulations.gov, your entire comment—including any personal identifying information—will be posted on the Web site. While you can ask us in your comment to withhold your personal identifying information from public review, we cannot guarantee that we will be able to do so.

If you mail or hand deliver a hardcopy comment that includes personal identifying information, you may request at the top of your document that we withhold this information from public review, but we cannot guarantee that we will be able to do so. To ensure that the electronic docket for this rulemaking is complete and all comments we receive are publicly available, we will post all hardcopy submissions on http://www.regulations.gov.

Peer Review

In accordance with our policy published in the Federal Register on July 1, 1994 (59 FR 34270), and the Office of Management and Budget's Final Information Quality Bulletin for Peer Review, dated December 16, 2004, we are soliciting the expert opinions of at least three appropriate and independent specialists regarding the science in our proposed rule published on June 17, 2015 (80 FR 34595). The purpose of such review is to ensure that we base our decisions on scientifically sound data, assumptions, and analyses. We are sending peer reviewers copies of the proposed rule and inviting them to comment, during this reopened public comment period, on the specific assumptions and conclusions regarding the proposed delisting. We will summarize the opinions of these reviewers in the final decision document, and we will consider their input and any additional information we receive as part of our process of making a final decision on the proposal. Such communication may lead to a final decision that differs from the proposal.

Dated: June 20, 2016.
Stephen Guertin,
Acting Director, U.S. Fish and Wildlife Service.

[FR Doc. 2016-15227 Filed 6-27-16; 8:45 am]

BILLING CODE 4333-15-P